DEPARTMENT OF HEALTH AND HUMAN SERVICES

Centers for Medicare & Medicaid Services

[CMS-2385-CN]

Medicaid Program; State Allotments for Payment of Medicare Part B Premiums for Qualifying Individuals (QIs) for FY 2012

AGENCY: Centers for Medicare & Medicaid Services (CMS), HHS.

ACTION: Notice; correction.

SUMMARY: This document corrects a technical error that appeared in the notice published in the July 24, 2012 Federal Register (77 FR 43329) entitled “State Allotments for Payment of Medicare Part B Premiums for Qualifying Individuals (QIs) for FY 2012.”

DATES: Effective Dates: The final QI allotments for payment of Medicare Part B premiums for FY 2011 are effective October 1, 2010. The preliminary QI allotments for FY 2012 are effective October 1, 2011.

FOR FURTHER INFORMATION CONTACT: Richard Strauss, (410) 786-2019.

SUPPLEMENTARY INFORMATION:

I. Background

In FR Doc. 2012-17952 of July 24, 2012 (77 FR 43329), there was a technical error that is identified and corrected in the Correction of Error section below. The provision in this correction document is effective as if it had been included in the document published in the July 24, 2012 Federal Register.

II. Summary of Errors

In the “Background” section of the notice that was published in the July 24, 2012 Federal Register, we inadvertently omitted Chart 1 titled “Final Qualifying Individuals Allotments for October 1, 2010 through September 30, 2011.” This notice is being issued to correct that error.

III. Correction of Errors

In the notice that was published in the July 24, 2012 Federal Register, make the following correction:

In the “Background” section, include Chart 1 “State Allotments for Payment of Medicare Part B Premiums for Qualifying Individuals (QIs) for FY 2012.”

Chart 1—Final Qualifying Individuals Allotments for October 1, 2010 Through September 30, 2011
State | Initial QI allotments for FY 2011: Number of individuals/3 (000s) | Initial QI allotments for FY 2011: Percentage of total Col B/Tot. Col B | Initial QI allotments for FY 2011: Initial QI allotment Col × $885,000,000 | FY 2011 Estimated QI expenditures/1 | Need (difference) If E>D, E − D | Percentage of total need states F/(Tot. of F) | Reduction pool for non-need States If D>=E, D − E | Percentage of total non-need States H/(Tot. of H) | Reduction adjustment for non-need States Col. 1 × $35,415,135 | Increase adjustment for need States Col. G × $35,415,135 | Final FY 2011 QI allotment/2
A | B | C | D | E | F | G | H | I | J | K | L
Alabama | 40 | 2.75 | $24,363,386 | $20,880,831 | NA | NA | $3,482,555 | 1.4562 | $515,727 | NA | $23,847,659
Alaska | 2 | 0.14 | 1,218,169 | 219,365 | NA | NA | 998,804 | 0.4177 | 147,912 | NA | 1,070,258
Arizona | 21 | 1.45 | 12,790,778 | 17,342,127 | 4,551,349 | 12.8514 | Need | Need | Need | 4,551,349 | 17,342,127
Arkansas | 23 | 1.58 | 14,008,947 | 13,221,431 | NA | NA | 787,516 | 0.3293 | 116,622 | NA | 13,892,325
California | 103 | 7.09 | 62,735,719 | 28,587,784 | NA | NA | 34,147,935 | 14.2790 | 5,056,924 | NA | 57,678,794
Colorado | 18 | 1.24 | 10,963,524 | 5,295,566 | NA | NA | 5,667,958 | 2.3701 | 839,361 | NA | 10,124,163
Connecticut | 19 | 1.31 | 11,572,608 | 4,486,600 | NA | NA | 7,086,008 | 2.9630 | 1,049,358 | NA | 10,523,250
Delaware | 6 | 0.41 | 3,654,508 | 3,146,625 | NA | NA | 507,883 | 0.2124 | 75,212 | NA | 3,579,296
District of Columbia | 3 | 0.21 | 1,827,254 | 0 | NA | NA | 1,827,254 | 0.7641 | 270,596 | NA | 1,556,658
Florida | 106 | 7.30 | 64,562,973 | 66,436,364 | 1,873,391 | 5.2898 | Need | Need | Need | 1,873,391 | 66,436,364
Georgia | 41 | 2.82 | 24,972,471 | 26,906,212 | 1,933,741 | 5.4602 | Need | Need | Need | 1,933,741 | 26,906,212
Hawaii | 4 | 0.28 | 2,436,339 | 1,291,051 | NA | NA | 1,145,288 | 0.4789 | 169,604 | NA | 2,266,734
Idaho | 6 | 0.41 | 3,654,508 | 2,343,040 | NA | NA | 1,311,468 | 0.5484 | 194,214 | NA | 3,460,294
Illinois | 65 | 4.47 | 39,590,502 | 24,682,083 | NA | NA | 14,908,419 | 6.2340 | 2,207,769 | NA | 37,382,734
Indiana | 37 | 2.55 | 22,536,132 | 7,442,661 | NA | NA | 15,093,471 | 6.3113 | 2,235,173 | NA | 20,300,959
Iowa | 21 | 1.45 | 12,790,778 | 4,271,524 | NA | NA | 8,519,254 | 3.5623 | 1,261,605 | NA | 11,529,172
Kansas | 17 | 1.17 | 10,354,439 | 4,610,144 | NA | NA | 5,744,295 | 2.4020 | 850,665 | NA | 9,503,774
Kentucky | 27 | 1.86 | 16,445,286 | 15,690,958 | NA | NA | 754,328 | 0.3154 | 111,707 | NA | 16,333,578
Louisiana | 30 | 2.06 | 18,272,540 | 20,326,470 | 2,053,930 | 5.7996 | Need | Need | Need | 2,053,930 | 20,326,470
Maine | 5 | 0.34 | 3,045,423 | 5,682,148 | 2,636,725 | 7.4452 | Need | Need | Need | 2,636,725 | 5,682,148
Maryland | 17 | 1.17 | 10,354,439 | 7,088,750 | NA | NA | 3,265,689 | 1.3656 | 483,612 | NA | 9,870,827
Massachusetts | 35 | 2.41 | 21,317,963 | 10,537,185 | NA | NA | 10,780,778 | 4.5080 | 1,596,512 | NA | 19,721,451
Michigan | 47 | 3.23 | 28,626,979 | 15,085,628 | NA | NA | 13,541,351 | 5.6623 | 2,005,321 | NA | 26,621,657
Minnesota | 22 | 1.51 | 13,399,862 | 6,222,133 | NA | NA | 7,177,729 | 3.0014 | 1,062,941 | NA | 12,336,922
Mississippi | 17 | 1.17 | 10,354,439 | 15,159,850 | 4,805,411 | 13.5688 | Need | Need | Need | 4,805,411 | 15,159,850
Missouri | 34 | 2.34 | 20,708,878 | 5,920,121 | NA | NA | 14,788,757 | 6.1839 | 2,190,048 | NA | 18,518,830
Montana | 6 | 0.41 | 3,654,508 | 1,621,995 | NA | NA | 2,032,513 | 0.8499 | 300,992 | NA | 3,353,516
Nebraska | 7 | 0.48 | 4,263,593 | 2,506,235 | NA | NA | 1,757,358 | 0.7348 | 260,245 | NA | 4,003,348
Nevada | 9 | 0.62 | 5,481,762 | 4,524,038 | NA | NA | 957,724 | 0.4005 | 141,828 | NA | 5,339,934
New Hampshire | 6 | 0.41 | 3,654,508 | 2,135,209 | NA | NA | 1,519,299 | 0.6353 | 224,991 | NA | 3,429,517
New Jersey | 29 | 2.00 | 17,663,455 | 10,947,452 | NA | NA | 6,716,003 | 2.8083 | 994,564 | NA | 16,668,891
New Mexico | 12 | 0.83 | 7,309,016 | 4,380,182 | NA | NA | 2,928,834 | 1.2247 | 433,727 | NA | 6,875,289
New York | 88 | 6.06 | 53,599,449 | 46,599,154 | NA | NA | 7,000,295 | 2.9272 | 1,036,665 | NA | 52,562,785
North Carolina | 51 | 3.51 | 31,063,317 | 29,879,017 | NA | NA | 1,184,300 | 0.4952 | 175,382 | NA | 30,887,936
North Dakota | 3 | 0.21 | 1,827,254 | 732,156 | NA | NA | 1,095,098 | 0.4579 | 162,172 | NA | 1,665,082
Ohio | 69 | 4.75 | 42,026,841 | 23,482,476 | NA | NA | 18,544,365 | 7.7543 | 2,746,211 | NA | 39,280,629
Oklahoma | 17 | 1.17 | 10,354,439 | 10,487,929 | 133,490 | 0.3769 | Need | Need | Need | 133,490 | 10,487,929
Oregon | 19 | 1.31 | 11,572,608 | 13,141,294 | 1,568,686 | 4.4294 | Need | Need | Need | 1,568,686 | 13,141,294
Pennsylvania | 72 | 4.96 | 43,854,095 | 33,758,390 | NA | NA | 10,095,705 | 4.2215 | 1,495,060 | NA | 42,359,035
Rhode Island | 6 | 0.41 | 3,654,508 | 2,322,853 | NA | NA | 1,331,655 | 0.5568 | 197,203 | NA | 3,457,305
South Carolina | 24 | 1.65 | 14,618,032 | 15,020,561 | 402,529 | 1.1366 | Need | Need | Need | 402,529 | 15,020,561
South Dakota | 4 | 0.28 | 2,436,339 | 1,720,053 | NA | NA | 716,286 | 0.2995 | 106,074 | NA | 2,330,265
Tennessee | 34 | 2.34 | 20,708,878 | 26,632,392 | 5,923,514 | 16.7259 | Need | Need | Need | 5,923,514 | 26,632,392
Texas | 117 | 8.05 | 71,262,904 | 78,314,925 | 7,052,021 | 19.9124 | Need | Need | Need | 7,052,021 | 78,314,925
Utah | 9 | 0.62 | 5,481,762 | 2,259,983 | NA | NA | 3,221,779 | 1.3472 | 477,109 | NA | 5,004,653
Vermont | 2 | 0.14 | 1,218,169 | 3,698,518 | 2,480,349 | 7.0036 | Need | Need | Need | 2,480,349 | 3,698,518
Virginia | 33 | 2.27 | 20,099,794 | 12,026,439 | NA | NA | 8,073,355 | 3.3759 | 1,195,573 | NA | 18,904,221
Washington | 21 | 1.45 | 12,790,778 | 9,678,240 | NA | NA | 3,112,538 | 1.3015 | 460,932 | NA | 12,329,846
West Virginia | 15 | 1.03 | 9,136,270 | 6,570,617 | NA | NA | 2,565,653 | 1.0728 | 379,944 | NA | 8,756,326
Wisconsin | 32 | 2.20 | 19,490,709 | 5,065,273 | NA | NA | 14,425,436 | 6.0320 | 2,136,244 | NA | 17,354,465
Wyoming | 2 | 0.14 | 1,218,169 | 885,008 | NA | NA | 333,161 | 0.1393 | 49,337 | NA | 1,168,832
Total | 1,453 | 100.00 | 885,000,000 | 681,267,040 | 35,415,135 | 100.0000 | 239,148,095 | 100.0000 | 35,415,135 | 35,415,135 | 885,000,000
Footnotes:
¹ FY 2011 Estimates from July 2011 CMS Survey of States.
² For Need States, Final FY 2011 QI Allotment is equal to Initial QI Allotment in Column D increased by amount in Column K. For Non-Need States, Final FY 2011 QI Allotment is equal to Initial QI Allotment in Column D reduced by amount in Column J.
³ Three-year average (2007-2009) of number (000) of Medicare beneficiaries in State who are not enrolled in Medicaid but whose incomes are at least 120% but less than 135% of Federal poverty level. Source: Census Bureau Annual Social and Economic Supplement (ASEC) to the 2010 Current Population Survey (CPS).

Authority: (Catalog of Federal Domestic Assistance Program No. 93.778, Medical Assistance Program).

Dated: August 14, 2012.
Jennifer Cannistra,
Executive Secretary to the Department.

[FR Doc. 2012-20296 Filed 8-17-12; 8:45 am]

BILLING CODE 4120-01-P